DEPARTMENT OF STATE

[Public Notice: 104511]

Notice of Meeting: U.S. Advisory Commission on Public Diplomacy

The U.S. Advisory Commission on Public Diplomacy will hold a public meeting from 10:30 a.m. until 12:00 p.m., Thursday, September 13, 2018, at the headquarters of the U.S. Mission to the United Nations (799 United Nations Plaza, New York, NY 10017).

The public meeting will focus on Public Diplomacy in the Multilateral Context and feature panelists discussing the role that Public Diplomacy plays in shaping and advancing U.S. foreign policy goals with multilateral organizations, as well as insights into the United Nations' use of Public Diplomacy tools and programs.

This meeting is open to the public, including the media and members and staff of governmental and non-governmental organizations. An RSVP is required for building access. To attend and make any requests for reasonable accommodation, email Michelle Bowen at BowenMC1@state.gov by 5:00 p.m. on Thursday, September 6, 2018. Please arrive for the meeting by 10:15 a.m. to allow for a prompt start.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

For more information on the U.S. Advisory Commission on Public Diplomacy, please visit www.state.gov/pdcommission. For more information on the upcoming public meeting, contact the Commission's Designated Federal Official, J. Jeff Daigle, at DaigleJJ@state.gov.

John J. Daigle,
Designated Federal Official, Advisory Commission on Public Diplomacy, Department of State.

[FR Doc. 2018-18327 Filed 8-23-18; 8:45 am]

BILLING CODE 4710-11-P